INTERNATIONAL TRADE COMMISSION

[USITC SE-12-017]

Sunshine Act Meeting

Agency Holding the Meeting: United States International Trade Commission.

DATES: Time and Date: June 14, 2012 at 11:00 a.m.

Place: Room 101, 500 E Street SW., Washington, DC 20436, Telephone: (202) 205-2000.

Status: Open to the public.

Matters To Be Considered: 1. Agendas for future meetings: None.

2. Minutes.

3. Ratification List.

4. Vote in Inv. Nos. 701-TA-253 and 731-TA-132, 252, 271, 273, 532-534, and 536 (Third Review) (Certain Pipe and Tube from Brazil, India, Korea, Mexico, Taiwan, Thailand, and Turkey). The Commission is currently scheduled to transmit its determinations and Commissioners' opinions to the Secretary of Commerce on or before June 28, 2012.

5. Outstanding action jackets: None.

In accordance with Commission policy, subject matter listed above, not disposed of at the scheduled meeting, may be carried over to the agenda of the following meeting.

By Order of the Commission.
Issued: June 7, 2012.
Lisa R. Barton,
Acting Secretary to the Commission.

[FR Doc. 2012-14490 Filed 6-11-12; 11:15 am]

BILLING CODE 7020-02-P